DEPARTMENT OF THE INTERIOR

Fish and Wildlife Service

Aquatic Nuisance Species Task Force Great Lakes Panel Meeting

AGENCY: Fish and Wildlife Service, Interior.

ACTION: Notice of meeting.

SUMMARY: This notice announces a meeting of the Aquatic Nuisance Species (ANS) Task Force Great Lakes Panel. The meeting topics are identified in the SUPPLEMENTARY INFORMATION.

DATES: The Great Lakes Panel will meet from 11:00 am to 4:30 pm on Wednesday, May 29, 2002, and 8:00 am to 4:00 pm on Thursday, May 30, 2002.

ADDRESSES: The Great Lakes Panel meeting will be held at the Stone Laboratory of the Ohio State University Field Station located on Gibraltar Island of Lake Erie at 878 Bayview Avenue, Put-in-Bay, Ohio 43456. Phone (419) 285-2341.

FOR FURTHER INFORMATION CONTACT: Kathe Glassner-Shwayder, Project Manager, Great Lakes Commission, at 734-665-9135 or Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force Great Lakes Panel. The Task Force was established by the Nonindigenous Aquatic Nuisance Prevention and Control Act of 1990.

The Great Lakes Panel, comprised of representatives from Federal, State, and local agencies and from private environmental and commercial interests, performs the following activities:

(a) Identifies priorities for the Great Lakes Region with respect to aquatic nuisance species;

(b) makes recommendations to the Task Force regarding programs to carry out zebra mussel programs;

(c) assists the Task Force in coordinating Federal aquatic nuisance species program activities in the Great Lakes region;

(d) coordinates, where possible, aquatic nuisance species program activities in the Great Lakes region that are not conducted pursuant to the Nonindigenous Aquatic Nuisance Prevention and Control Act of 1990 (as amended, 1996);

(e) provides advice to public and private individuals and entities concerning methods of controlling aquatic nuisance species; and

(f) submits an annual report describing activities within the Great Lakes region related to aquatic nuisance species prevention, research, and control.

Topics to be addressed at this meeting include: a review of the Great Lakes Panel accomplishments on ANS prevention and control in the Great Lakes/St. Lawrence Region over the past decade; a review of the status of Federal (U.S. and Canadian) Legislation and Policies; a discussion on Great Lakes Panel's Rapid Response Model Plan; an update on the International Association of Great Lakes Research white paper on Ballast Water; an update on the International Joint Commission Great Lakes/St. Lawrence Research Inventory; and an update on NISA reauthorization and the Panel's role in advancing NISA recommendations.

Minutes of the meeting will be maintained by the Executive Secretary, Aquatic Nuisance Species Task Force, Suite 810, 4401 North Fairfax Drive, Arlington, Virginia 22203-1622, and will be available for public inspection during regular business hours, Monday through Friday.

Dated: April 30, 2002.
Cathleen I. Short,
Co-Chair, Aquatic Nuisance Species Task Force, Assistant Director—Fisheries & Habitat Conservation.

[FR Doc. 02-12176 Filed 5-15-02; 8:45 am]

BILLING CODE 4310-55-M